DEPARTMENT OF EDUCATION

Notice of Open Meeting

AGENCY: National Advisory Committee on Institutional Quality and Integrity (NACIQI or Committee), Office of Postsecondary Education, Department of Education.

ACTION: Announcement of an open meeting.

SUMMARY: This notice sets forth the agenda, time, and instructions to access or participate in the February 28-March 2, 2023, hybrid meeting of NACIQI, and provides information to members of the public regarding the meeting, including requesting to make written or oral comments. Committee members will meet in-person while accrediting agency representatives and public attendees will participate virtually. The notice of this meeting is required under section 10(a)(2) of the Federal Advisory Committee Act (FACA) and section 114(d)(1)(B) of the Higher Education Act (HEA) of 1965, as amended.

ADDRESSES: Potomac Center Plaza, 10th Floor Auditorium, 550 12th Street SW, Washington, DC 20024 [Only NACIQI members and Department of Education staff will participate in the meeting at this address].

DATES: The hybrid NACIQI meeting will be held on February 28-March 2, 2023. On February 28 and March 1, the meeting will be held from 9:00 a.m. to 5:30 p.m. Eastern Standard Time. On March 2, the meeting will be held from 9:00 a.m. to 2:00 p.m. Eastern Time.

FOR FURTHER INFORMATION CONTACT: George Alan Smith, Executive Director and Designated Federal Official (DFO), NACIQI, U.S. Department of Education, 400 Maryland Avenue SW, Room 2C-159, Washington, DC 20202, telephone: (202) 453-7757, or email: George.Alan.Smith@ed.gov.

SUPPLEMENTARY INFORMATION:

Statutory Authority and Function: NACIQI is established under Section 114 of the HEA (20 U.S.C. 1011c). NACIQI advises the Secretary of Education with respect to:

• The establishment and enforcement of the standards of accrediting agencies or associations under subpart 2, part H, Title IV of the HEA, as amended;

• The recognition of specific accrediting agencies or associations;

• The preparation and publication of the list of nationally recognized accrediting agencies and associations;

• The eligibility and certification process for institutions of higher education under Title IV of the HEA, together with recommendations for improvement in such process;

• The relationship between (1) accreditation of institutions of higher education and the certification and eligibility of such institutions, and (2) State licensing responsibilities with respect to such institutions; and

• Any other advisory function relating to accreditation and institutional eligibility that the Secretary of Education may prescribe by regulation.

Meeting Agenda

The purpose of the meeting is to conduct a review of the following applications for renewal of recognition and compliance reports, in addition to discussing relevant policy issues and electing a new chairperson and a new vice-chairperson for the Committee:

Applications for Renewal of Recognition

1. Accreditation Commission for Education in Nursing, Inc. Scope of recognition: Accreditation of nursing education programs and schools, both postsecondary and higher degree, which offer a certificate, diploma, or a recognized professional degree, including clinical doctorate, masters, baccalaureate, associate, diploma, and practical nursing programs in the United States and its territories, including those offered via distance education.

2. Accreditation Commission for Midwifery Education. Scope of recognition: The accreditation and preaccreditation of basic certificate, basic graduate nurse-midwifery, direct entry midwifery, and pre-certification nurse-midwifery education programs, including those programs that offer distance education.

3. American Physical Therapy Association, Commission on Accreditation in Physical Therapy Education. Scope of recognition: The accreditation and preaccreditation (“Candidate for Accreditation”) in the United States of physical therapist education programs leading to the first professional degree at the master's or doctoral level and physical therapist assistant education programs at the associate degree level and for its accreditation of such programs offered via distance education.

4. Higher Learning Commission. Scope of recognition: The accreditation and preaccreditation (“Candidate for Accreditation”) of degree-granting institutions of higher education in the United States, including the tribal institutions, and the accreditation of programs offered via distance education and correspondence education within these institutions. This recognition extends to the Institutional Actions Council jointly with the Board of Trustees of the Commission for decisions on cases for continued accreditation or reaffirmation, and continued candidacy, and to the Appeals Body jointly with the Board of Trustees of the Commission for decisions related to initial candidacy or accreditation or reaffirmation of accreditation.

5. Middle States Commission on Higher Education. Scope of recognition: The accreditation and preaccreditation (“Candidacy status”) of institutions of higher education in Delaware, the District of Columbia, Maryland, New Jersey, New York, Pennsylvania, Puerto Rico, and the U.S. Virgin Islands, and any other geographic areas in which the Commission elects to conduct accrediting activities within the United States including distance and correspondence education programs offered at those institutions.

6. New England Commission of Higher Education. Scope of recognition: The accreditation and preaccreditation (“Candidacy status”) of institutions of higher education in Connecticut, Maine, Massachusetts, New Hampshire, Rhode Island, and Vermont that award bachelor's, master's, and/or doctoral degrees and associate degree-granting institutions in those states that include degrees in liberal arts or general studies among their offerings, including the accreditation of programs offered via distance education within these institutions. Jointly with the Commission, this recognition extends to its Executive Committee and also to the Appeals Body for decisions related to the appeal of denial or withdrawal of candidacy; probation; and denial or withdrawal of accreditation.

7. Western Association of Schools and Colleges, Senior College and University Commission. Scope of recognition: The accreditation and preaccreditation (“Candidate for Accreditation”) of institutions of higher education in the United States that offer the baccalaureate degree or above, including distance education programs offered at those institutions.

Compliance Reports

1. New York State Board of Regents, State Education Department, Office of the Professions (Nursing Education). The compliance report relates to findings of noncompliance with the Department's criteria for recognition of state agencies for approval of nurse education, set forth in a Federal Register notice published on January 16, 1969. 34 FR 587, 644-645 (January 16, 1969). The Senior Department official's (SDO) decision letter, dated October 28, 2020, is available under NACIQI meeting date 07/29/2020 at https://surveys.ope.ed.gov/erecognition/#/public-documents.

2. Maryland Board of Nursing. The compliance report relates to findings of noncompliance with the Department's criteria for recognition of state agencies for approval of nurse education, set forth in a Federal Register notice published on January 16, 1969. 34 FR 587, 644-645 (January 16, 1969). The Acting Secretary's Order, dated January 19, 2021, is available under NACIQI meeting date 02/27/2020 at https://surveys.ope.ed.gov/erecognition/#/public-documents.

Committee Chairperson and Vice-Chairperson Elections

The DFO will facilitate the election of a new chairperson and a new vice-chairperson for the Committee.

Administration Policy Update

A representative from the Administration will share an update on the Administration's higher education policy priorities.

Policy Discussion

The NACIQI Accreditation Dashboard Subcommittee will provide a progress report.

Instructions for Accessing the Meeting

Registration

Committee members will meet in-person while agency representatives and public attendees will participate virtually. You may register for the meeting on your computer using the link below. After you register, you will receive a confirmation email containing personalized participation links for each day of the three-day meeting.

Registration Address

https://2023NACIQIWINTER.eventbrite.com.

Public Comment

Submission of requests to make an oral comment regarding a specific accrediting agency under review, or to make an oral comment or written statement regarding other issues within the scope of NACIQI's authority:

Opportunity to submit a written statement regarding a specific accrediting agency under review was solicited by a previous Federal Register notice published on December 15, 2021 (86 FR 71251; Document Number 2021-27095). The period for submission of such statements is now closed. Additional written statements regarding a specific accrediting agency or state approval agency under review will not be accepted at this time. However, members of the public may submit written statements regarding other issues within the scope of NACIQI's authority for consideration by NACIQI in the manner described below.

Members of the public may make oral comments regarding a specific accrediting agency under review and/or other agenda topics. Oral comments may not exceed three minutes. Oral comments about an agency's recognition when a compliance report has been required by the Senior Department Official or the Secretary must relate to the criteria for recognition cited in the Senior Department Official's letter that requested the report, or in the Secretary's appeal decision, if any. Oral comments about an agency seeking expansion of scope must be directed to the agency's ability to serve as a recognized accrediting agency with respect to the kinds of institutions or programs requested to be added. Oral comments about the renewal of an agency's recognition must relate to its compliance with the criteria for the Recognition of Accrediting Agencies, which are available at www.ed.gov/admins/finaid/accred/index.html.

Written statements and oral comments concerning NACIQI's work outside of a specific accrediting agency under review must be limited to matters within the scope of NACIQI's authority as outlined under Section 114 of the HEA (20 U.S.C. 1011c).

Instructions on Requesting To Make Public Comment

To request to make oral comments of three minutes or less during the February 28-March 2, 2023, meeting, please follow either Method One or Method Two below. To submit a written statement to NACIQI concerning its work outside a specific accrediting agency under review, please follow Method One.

Method One: Submit a request by email to the ThirdPartyComments@ed.gov mailbox. Please do not send material directly to NACIQI members. Written statements to NACIQI concerning its work outside of a specific accrediting agency under review and requests to make oral comment must be received by February 21, 2023, and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with this notice will be afforded an opportunity to speak.

Method Two (Only available to those seeking to make oral comments): Submit a request by email on February 28, 2023, between 7:45 a.m.-8:45 a.m. Eastern Standard Time to the ThirdPartyComments@ed.gov mailbox. The email must include the subject on which the requestor wishes to comment, in addition to his or her name, title, organization or affiliation, mailing address, email address, and telephone number. If you intend to make your comments by dialing into the meeting rather than using a computer, please be sure to include that information in your email request. A total of up to fifteen minutes for each agenda item will be allotted for oral commenters who register on February 28, 2023, between 7:45 a.m. and 8:45 a.m. Eastern Standard Time. Individuals will be selected on a first-come, first-served basis. If selected, each commenter may not exceed three minutes.

Access to Records of the Meeting: The Department will post the official report of the meeting on the NACIQI website https://sites.ed.gov/naciqi/archive-of-meetings/ within 90 days after the meeting. In addition, pursuant to the FACA, the public may request to inspect records of the meeting at 400 Maryland Avenue SW, Washington, DC, by sending an email message to aslrecordsmanager@ed.gov or by calling (202) 453-7415 to schedule an appointment. Senior Department Official's (as defined in 34 CFR 602.3) decisions, pursuant to 34 CFR 602.36, associated with all NACIQI meetings can be found at the following website: https://surveys.ope.ed.gov/erecognition/#/public-documents.

Reasonable Accommodations: The dial-in information and weblink access to the meeting are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 114 of the HEA of 1964, as amended (20 U.S.C. 1011c).

Annmarie Weisman,
Deputy Assistant Secretary for Policy, Planning and Innovation, Office of Postsecondary Education.

[FR Doc. 2023-01632 Filed 1-26-23; 8:45 am]

BILLING CODE P